DEPARTMENT OF AGRICULTURE

Agricultural Marketing Service

[Doc. No. AMS-FGIS-21-0009]

United States Standards for Beans

AGENCY: Agricultural Marketing Service, USDA.

ACTION: Notice of final action.

SUMMARY: This action is being taken under the authority of the Agricultural Marketing Act of 1946, as amended, (AMA). The United States Department of Agriculture's (USDA) Agricultural Marketing Service (AMS) is adding the new criterion, Cotyledon Damage, in the Bean Inspection Handbook pertaining to the class chickpea/garbanzo beans in the U.S. Standards for Beans. Stakeholders in the dry bean processing/handling industry requested AMS to revise the Bean Inspection Handbook to include the criterion for the new damage factor, Cotyledon Damage, in chickpeas/garbanzo beans.

DATES: Applicability date: August 26, 2021.

FOR FURTHER INFORMATION CONTACT: Loren Almond, USDA AMS; Telephone: (816) 702-3925; email: Loren.L.Almond@usda.gov.

SUPPLEMENTARY INFORMATION: Under the authority of the AMA (7 U.S.C. 1621-1627), as amended, AMS establishes and maintains a variety of quality and grade standards for agricultural commodities that serve as a fundamental starting point to define commodity quality in the domestic and global marketplace.

Standards developed under the AMA include those for rice, whole dry peas, split peas, feed peas, lentils, and beans. United States standards for whole dry peas, split peas, feed peas, lentils and beans no longer appear in the Code of Federal Regulations but are now maintained by USDA-AMS-Federal Grain Inspection Service (AMS-FGIS). The U.S. Standards for beans are voluntary and widely used in private contracts, government procurement, marketing communication, and for some commodities, consumer information.

Bean standards facilitate bean marketing and define U.S. bean quality in the domestic and global marketplace. These standards define commonly used industry terms; contain basic principles governing the application of standards, such as the type of sample used for a particular quality analysis; provide the basis of determination; and specify grades and grade requirements. Official procedures for determining grading factors are provided in the Bean Inspection Handbook. Together, grading standards and testing procedures allow buyers and sellers to communicate quality requirements, compare bean quality using equivalent forms of measurement, and assist in price discovery.

AMS engages in outreach with stakeholders to ensure commodity standards maintain relevance to the modern market. Bean industry stakeholders include the USA Dry Pea and Lentil Council (USADPLC).

The United States Standards for Beans and official inspection procedures for beans in the Bean Inspection Handbook are available on the AMS public website. The United States Standards for Beans were last revised in 2017. Currently, under bean inspection criteria, white chalky or wafer-like spots are not considered damage in chickpea/garbanzo beans and there is not a definition or factor for Cotyledon Damage in Chickpea/Garbanzo Beans. Stakeholders stated that such spots in chickpea/garbanzo beans negatively affect bean flavor and specifically asked AMS to revise bean damage factors to include the addition of a new criterion, Cotyledon Damage, in the class Chickpea/Garbanzo Beans.

Addition of Cotyledon Damage Factor in the Class Chickpea/Garbanzo Beans

Stakeholders recommended that AMS revise the Bean Inspection Handbook criteria to include the new damage factor, Cotyledon Damage, in the class Chickpea/Garbanzo Beans. AMS and stakeholders worked collaboratively to define and state the criteria for Cotyledon Damage in Chickpea/Garbanzo Beans. Additionally, these changes were recommended to AMS by stakeholders to facilitate current marketing practices.

Comment Review

AMS published a Notice in the Federal Register on April 22, 2021 (86 FR 21268), inviting interested parties to comment on the proposed revisions to the U.S. Standards for Beans. AMS received two comments in response to the notice that strongly supported the proposed revision. AMS received no comments opposing the proposed revision. AMS believes this revision will facilitate inspections, better reflect current marketing practices, be cost efficient, and facilitate purchasing and selling of chickpea/garbanzo beans. Accordingly, AMS is making no changes to the revised chickpea/garbanzo bean inspection methods as proposed. The revision to chickpea/garbanzo bean inspection is effective August 1, 2021. The Bean Inspection Handbook will be revised to incorporate the revision.

Final Action

AMS is revising the Chickpea/Garbanzo bean inspection criteria by amending the Bean Inspection Handbook to include the definition and criteria requirements for Cotyledon Damage in Chickpea/Garbanzo Beans. The new damage factor will be defined as, “Chickpea/Garbanzo beans or pieces of Chickpea/Garbanzo beans with a white chalky or wafer-like spot that penetrates the cotyledon (singularly or in combination) that meets or exceeds the minimum coverage shown on VRI-Bean-5.1 Cotyledon Damage (Chickpea/Garbanzo).” The criteria also specify that damage portion size requirements for chickpea/garbanzo beans are approximately 250 grams for small-seeded beans and 500 grams for large-seeded beans. Further, suspect beans must be scraped to confirm the spot penetrates into the cotyledon and is of a size to constitute damage, per the definition.

Authority: 7 U.S.C. 1621-1627.

Bruce Summers,
Administrator, Agricultural Marketing Service.

[FR Doc. 2021-18321 Filed 8-25-21; 8:45 am]

BILLING CODE P